DEPARTMENT OF THE INTERIOR

National Park Service

[NPS-WASO-BSD-CONC-NPS0035666; PPWOBSADC0, PPMVSCS1Y.Y00000 (222); OMB Control Number 1024-0029]

Agency Information Collection Activities; Submission to the Office of Management and Budget for Review and Approval; National Park Service Concessions

AGENCY: National Park Service, Interior.

ACTION: Notice of information collection; request for comment.

SUMMARY: In accordance with the Paperwork Reduction Act of 1995, we, the National Park Service are proposing to renew an information collection.

DATES: Interested persons are invited to submit comments on or before July 12, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0029” in the subject line of your comments.

FOR FURTHER INFORMATION CONTACT: To request additional information about this ICR, contact Kurt Rausch, Contract Management Team Lead, National Park Service, 1849 C Street NW, Washington, DC 20240 (mail); or 202-513-7202 (telephone); or kurt_rausch@nps.gov (email). Please reference OMB Control Number 1024-0229 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 9, 2022 (87 FR 27661) and ended on July 8, 2022. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: There are private businesses in more than 100 national parks under contract to the NPS that manage food, lodging, tours, whitewater rafting, boating, and many other recreational activities and amenities. These services gross more than $1 billion every year and provide jobs for more than 25,000 people during peak seasons.

The regulations codified in 36 CFR part 51 primarily implement title IV of the National Parks Omnibus Management Act of 1998 (54 U.S.C. 101911 et seq. also referred to as Pub. L. 105-391), which provides legislative authority, policies, and requirements for the solicitation, award, and administration of NPS concession contracts. Furthermore, 54 U.S.C. 101911 et seq. provides that all proposed concession contracts shall be awarded by the Secretary to the person, corporation or other entity submitting the best proposal, as determined by the Secretary through a competitive selection process. Such competitive process shall include simplified procedures for small, individually owned, concessions contracts. We use the information collected to objectively evaluate offers to assure that the park resources will be adequately protected and determine which offeror will provide the best service to visitors. For the purpose of this submission, we are requesting an extension of the currently approved information collections associated with the administration of NPS concessions contracts.

• Concessioner Annual Financial Reports:

• Form 10-356, Concessioner Annual Financial Report

• Form 10-356A, Concessioner Annual Financial Report (For Concessioners with Gross Receipts Less than $500,000)

• Form 10-356B, Concessioner Annual Financial Report (For Concessioners with Special Accounts and Utility Add-ons)

Forms and documents used to submit Proposals for Concession Opportunities:

• Form 10-357A, Business Organization Information Form for Corporation, Limited Liability Company, Partnership or Joint Venture

• Form 10-357B, Business Organization Information Form for Individual or Sole Proprietorship

• Form 10-358, Business History Information Form

• Form 10-359, Large Concessions

• Form 10-359B, Small Concessions

• Credit Report, Offeror's Transmittal Letter, Certificate of Business Entity Offeror, and Offeror's Financial Projection

In addition to the forms, the following information is collected in narrative format: (1) Amendments, (2) Appeals, (3) Request to Construct a Capital Improvement, (4) Construction Report, (5) Application to Sell or Transfer Concession Operation, and (6) Recordkeeping.

Title of Collection: National Park Service Concessions, 36 CFR 51.

OMB Control Number: 1024-0029.

Form Number: NPS Forms 10-356, 10-356A, 10-356B, 10-357A, 10-357B, 10-358, 10-359A, and 10-359B.

Type of Review: Extension of a currently approved collection.

Respondents/Affected: Public individuals, businesses, and nonprofit organizations.

Total Estimated Number of Annual Responses: 1,382.

Estimated Completion Time per Response: 30 minutes to 800 hours depending on respondent and/or activity.

Total Estimated Number of Annual Burden Hours: 159,892.

Respondent's Obligation: Required to obtain or retain a benefit.

Frequency of Collection: On occasion for proposals, amendments, and appeals; annually for financial reports; and ongoing for recordkeeping.

Total Estimated Annual Nonhour Burden Cost: $425,000 ($420,000 for proposals associated with expenses for printing, travel for onsite visits, and professional fees; and, $5,000 for application to sell or transfer concession operation associated with preparing and submitting an application, other than expenses for printing, estimated to be approximately $250 per application (× 20 applications).

An agency may not conduct, or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-12473 Filed 6-9-23; 8:45 am]

BILLING CODE 4312-52-P